DEPARTMENT OF TRANSPORTATION

Federal Aviation Administration

14 CFR Part 97

[Docket No. 31146; Amdt. No. 3758]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 17, 2017. The compliance date for each SIAP, associated Takeoff Minimums, and ODP is specified in the amendatory provisions.

The incorporation by reference of certain publications listed in the regulations is approved by the Director of the Federal Register as of August 17, 2017.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on July 14, 2017.
John S. Duncan,
Director, Flight Standards Service.

Adoption of the Amendment

Accordingly, pursuant to the authority delegated to me, Title 14, Code of Federal regulations, Part 97 (14 CFR part 97) is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
17-Aug-17 | AR | Rogers | Rogers Executive—Carter Field | 7/2644 | 5/26/17 | This NOTAM, published in TL 17-17, is hereby rescinded in its entirety.
17-Aug-17 | AR | Rogers | Rogers Executive—Carter Field | 7/2645 | 5/26/17 | This NOTAM, published in TL 17-17, is hereby rescinded in its entirety.
17-Aug-17 | MI | Three Rivers | Three Rivers Muni Dr Haines | 7/4244 | 6/20/17 | This NOTAM, published in TL 17-17, is hereby rescinded in its entirety.
17-Aug-17 | WA | Yakima | Yakima Air Terminal/Mcallister Field | 7/0247 | 6/29/17 | RNAV (GPS) X RWY 27, Amdt 1B.
17-Aug-17 | MD | Baltimore | Baltimore/Washington Intl Thurgood Marshall | 7/0382 | 7/6/17 | RNAV (GPS) Y RWY 28, Amdt 2.
17-Aug-17 | MD | Baltimore | Baltimore/Washington Intl Thurgood Marshall | 7/0387 | 7/6/17 | RNAV (GPS) Y RWY 15R, Amdt 2.
17-Aug-17 | IN | Indianapolis | Indianapolis Intl | 7/0391 | 7/6/17 | RNAV (GPS) Y RWY 5L, Amdt 4.
17-Aug-17 | IN | Indianapolis | Indianapolis Intl | 7/0394 | 7/6/17 | RNAV (GPS) Y RWY 5R, Amdt 4.
17-Aug-17 | OH | Wilmington | Wilmington Air Park | 7/0707 | 7/5/17 | RNAV (GPS) RWY 22R, Orig.
17-Aug-17 | CA | San Jose | Norman Y Mineta San Jose Intl | 7/0708 | 7/6/17 | RNAV (GPS) Y RWY 30L, Amdt 3A.
17-Aug-17 | ND | Bismarck | Bismarck Muni | 7/0710 | 7/5/17 | RNAV (GPS) RWY 31, Amdt 1A.
17-Aug-17 | OK | Tulsa | Tulsa Intl | 7/0711 | 7/5/17 | RNAV (GPS) RWY 36R, Amdt 1B.
17-Aug-17 | SC | Myrtle Beach | Myrtle Beach Intl | 7/0717 | 7/6/17 | RNAV (GPS) RWY 18, Amdt 4.
17-Aug-17 | SC | Charleston | Charleston AFB/Intl | 7/0718 | 7/5/17 | RNAV (GPS) Y RWY 15, Amdt 3B.
17-Aug-17 | TX | Fort Worth | Fort Worth Meacham Intl | 7/0723 | 7/6/17 | RNAV (GPS) RWY 16, Amdt 1A.
17-Aug-17 | SC | Columbia | Columbia Metropolitan | 7/0724 | 7/5/17 | RNAV (GPS) RWY 11, Amdt 1.
17-Aug-17 | TN | Nashville | Nashville Intl | 7/0725 | 7/6/17 | RNAV (GPS) Y RWY 20L, Amdt 2A.
17-Aug-17 | TX | Dallas | Dallas Love Field | 7/0726 | 7/5/17 | RNAV (GPS) Z RWY 13L, Amdt 3.
17-Aug-17 | TX | Abilene | Abilene Rgnl | 7/0727 | 7/6/17 | RNAV (GPS) RWY 35R, Amdt 1A.
17-Aug-17 | TN | Memphis | Memphis Intl | 7/0737 | 7/6/17 | RNAV (GPS) RWY 27, Amdt 2B.
17-Aug-17 | TX | Corpus Christi | Corpus Christi Intl | 7/0740 | 7/6/17 | RNAV (GPS) Y RWY 13, Amdt 2.
17-Aug-17 | ME | Portland | Portland Intl Jetport | 7/0750 | 7/5/17 | RNAV (GPS) RWY 29, Amdt 3.
17-Aug-17 | MI | Detroit | Detroit Metropolitan Wayne County | 7/0761 | 7/5/17 | RNAV (GPS) RWY 21L, Amdt 3.
17-Aug-17 | IN | Indianapolis | Indianapolis Intl | 7/0913 | 6/29/17 | RNAV (GPS) Y RWY 14, Amdt 4.
17-Aug-17 | IN | Indianapolis | Indianapolis Intl | 7/0921 | 6/29/17 | RNAV (GPS) Y RWY 23L, Amdt 4.
17-Aug-17 | IN | Indianapolis | Indianapolis Intl | 7/0922 | 6/29/17 | RNAV (GPS) Y RWY 23R, Amdt 4.
17-Aug-17 | IN | Indianapolis | Indianapolis Intl | 7/0927 | 6/29/17 | RNAV (GPS) Y RWY 32, Amdt 4.
17-Aug-17 | SC | Columbia | Columbia Metropolitan | 7/0930 | 7/6/17 | RNAV (GPS) RWY 29, Amdt 1.
17-Aug-17 | MI | Flint | Bishop Intl | 7/0940 | 7/5/17 | RNAV (GPS) RWY 9, Amdt 1.
17-Aug-17 | VA | Richmond | Richmond Intl | 7/0944 | 7/6/17 | RNAV (GPS) Z RWY 16, Amdt 1B.
17-Aug-17 | IL | Belleville | Scott AFB/MidAmerica | 7/1217 | 7/10/17 | RNAV (GPS) RWY 32R, Orig-C.
17-Aug-17 | IN | Fort Wayne | Fort Wayne Intl | 7/1218 | 7/5/17 | RNAV (GPS) RWY 32, Amdt 1A.
17-Aug-17 | IN | Gary | Gary/Chicago Intl | 7/1228 | 7/5/17 | RNAV (GPS) Y RWY 30, Amdt 1.
17-Aug-17 | NY | New York | John F Kennedy Intl | 7/1338 | 7/5/17 | RNAV (GPS) Y RWY 31R, Amdt 2.
17-Aug-17 | TN | Crossville | Crossville Memorial-Whitson Field | 7/1343 | 6/29/17 | RNAV (GPS) RWY 26, Orig-A.
17-Aug-17 | KS | Chanute | Chanute Martin Johnson | 7/1427 | 6/29/17 | RNAV (GPS) RWY 36, Orig-A.
17-Aug-17 | TN | Memphis | Memphis Intl | 7/1979 | 7/5/17 | RNAV (GPS) Z RWY 18R, Amdt 2C.
17-Aug-17 | AL | Dothan | Dothan Rgnl | 7/1998 | 7/5/17 | RNAV (GPS) RWY 32, Amdt 1A.
17-Aug-17 | NC | Winston Salem | Smith Reynolds | 7/2473 | 7/5/17 | ILS OR LOC RWY 33, Amdt 29C.
17-Aug-17 | NC | Winston Salem | Smith Reynolds | 7/2484 | 7/5/17 | RNAV (GPS) RWY 33, Orig-A.
17-Aug-17 | NC | Winston Salem | Smith Reynolds | 7/2514 | 7/5/17 | RNAV (GPS) RWY 15, Amdt 1A.
17-Aug-17 | NC | Winston Salem | Smith Reynolds | 7/2518 | 7/5/17 | VOR/DME RWY 15, Amdt 1C.
17-Aug-17 | LA | Shreveport | Shreveport Rgnl | 7/2751 | 7/7/17 | RNAV (GPS) RWY 24, AMDT 2.
17-Aug-17 | LA | Alexandria | Alexandria Intl | 7/3442 | 7/5/17 | RNAV (GPS) RWY 14, Amdt 1.
17-Aug-17 | KY | Covington | Cincinnati/Northern Kentucky Intl | 7/3449 | 7/5/17 | RNAV (GPS) Y RWY 27, Orig-A.
17-Aug-17 | KS | Wichita | Wichita Dwight D Eisenhower National | 7/3451 | 6/29/17 | RNAV (GPS) RWY 1R, Amdt 2.
17-Aug-17 | KS | Wichita | Wichita Dwight D Eisenhower National | 7/3452 | 6/29/17 | RNAV (GPS) Y RWY 19R, Amdt 1A.
17-Aug-17 | IN | Evansville | Evansville Rgnl | 7/4198 | 7/5/17 | RNAV (GPS) RWY 22, Amdt 1A.
17-Aug-17 | AR | Rogers | Rogers Executive—Carter Field | 7/5115 | 7/7/17 | RNAV (GPS) RWY 20, Amdt 1A.
17-Aug-17 | AR | Rogers | Rogers Executive—Carter Field | 7/5116 | 7/7/17 | VOR RWY 2, Amdt 13D.
17-Aug-17 | NC | Fayetteville | Fayetteville Rgnl/Grannis Field | 7/5271 | 7/5/17 | RNAV (GPS) RWY 4, Amdt 3A.
17-Aug-17 | AK | Igiugig | Igiugig | 7/5822 | 7/5/17 | RNAV (GPS) RWY 5, Orig-B.
17-Aug-17 | AK | Igiugig | Igiugig | 7/5823 | 7/5/17 | RNAV (GPS) RWY 23, Orig-B.
17-Aug-17 | IN | Indianapolis | Indianapolis Metropolitan | 7/5836 | 7/5/17 | NDB RWY 15, Amdt 2A.
17-Aug-17 | IN | Indianapolis | Indianapolis Metropolitan | 7/5837 | 7/5/17 | RNAV (GPS) RWY 15, Amdt 1.
17-Aug-17 | IN | Indianapolis | Indianapolis Metropolitan | 7/5838 | 7/5/17 | RNAV (GPS) RWY 33, Amdt 1.
17-Aug-17 | IN | Indianapolis | Indianapolis Metropolitan | 7/5839 | 7/5/17 | VOR RWY 33, Amdt 10B.
17-Aug-17 | MI | Saginaw | MBS Intl | 7/6134 | 7/5/17 | RNAV (GPS) RWY 5, Amdt 1.
17-Aug-17 | MI | Muskegon | Muskegon County | 7/6136 | 7/5/17 | RNAV (GPS) RWY 32, Amdt 2A.
17-Aug-17 | MO | Kansas City | Kansas City Intl | 7/6137 | 7/5/17 | RNAV (GPS) Y RWY 27, Amdt 2A.
17-Aug-17 | MS | Meridian | Key Field | 7/6138 | 7/5/17 | RNAV (GPS) RWY 1, Amdt 3A.
17-Aug-17 | MA | New Bedford | New Bedford Rgnl | 7/6203 | 7/5/17 | RNAV (GPS) RWY 5, Amdt 1A.
17-Aug-17 | CA | Santa Rosa | Charles M Schulz—Sonoma County | 7/6204 | 7/5/17 | RNAV (GPS) RWY 32, Amdt 1B.
17-Aug-17 | MA | Vineyard Haven | Martha's Vineyard | 7/6206 | 7/5/17 | RNAV (GPS) RWY 24, Amdt 2C.
17-Aug-17 | WA | Bellingham | Bellingham Intl | 7/6210 | 7/7/17 | RNAV (GPS) Y RWY 16, Amdt 3.
17-Aug-17 | CA | Los Angeles | Los Angeles Intl | 7/6408 | 7/5/17 | RNAV (GPS) Y RWY 6R, Amdt 2.
17-Aug-17 | WA | Pasco | Tri-Cities | 7/6618 | 7/5/17 | RNAV (GPS) Y RWY 21R, Amdt 2.
17-Aug-17 | OH | Wilmington | Wilmington Air Park | 7/6620 | 7/5/17 | RNAV (GPS) RWY 4L, Orig.
17-Aug-17 | RI | Providence | Theodore Francis Green State | 7/6622 | 7/5/17 | RNAV (GPS) Y RWY 23, Amdt 2.
17-Aug-17 | OH | Akron | Akron-Canton Rgnl | 7/6624 | 7/6/17 | RNAV (GPS) RWY 23, Orig-A.
17-Aug-17 | OH | Akron | Akron-Canton Rgnl | 7/6628 | 7/6/17 | RNAV (GPS) RWY 5, Orig-A.
17-Aug-17 | OH | Akron | Akron-Canton Rgnl | 7/6630 | 7/6/17 | RNAV (GPS) RWY 19, Orig.
17-Aug-17 | CA | San Francisco | San Francisco Intl | 7/6632 | 6/29/17 | RNAV (GPS) RWY 28L, Amdt 5A.
17-Aug-17 | CA | San Francisco | San Francisco Intl | 7/6636 | 6/29/17 | RNAV (GPS) Z RWY 28R, Amdt 5A.
17-Aug-17 | MI | Three Rivers | Three Rivers Muni Dr Haines | 7/6809 | 7/10/17 | RNAV (GPS) RWY 27, Orig-B.
17-Aug-17 | FL | Vero Beach | Vero Beach Muni | 7/6938 | 6/29/17 | Takeoff Minimums and Obstacle DP, Orig-A.
17-Aug-17 | TX | Midland | Midland Intl Air And Space Port | 7/7019 | 6/29/17 | VOR OR TACAN RWY 16R, Amdt 23B.
17-Aug-17 | CO | Rifle | Garfield County Rgnl | 7/7074 | 07/11/17 | LOC/DME-A, Amdt 9.
17-Aug-17 | CO | Rifle | Garfield County Rgnl | 7/7076 | 07/11/17 | RNAV (GPS) W RWY 26, Amdt 1.
17-Aug-17 | CO | Rifle | Garfield County Rgnl | 7/7077 | 07/11/17 | RNAV (GPS) X RWY 26, Amdt 1A.
17-Aug-17 | CO | Rifle | Garfield County Rgnl | 7/7078 | 07/11/17 | RNAV (RNP) Y RWY 26, Amdt 1A.
17-Aug-17 | CO | Rifle | Garfield County Rgnl | 7/7080 | 07/11/17 | RNAV (GPS) Y RWY 8, Amdt 1.
17-Aug-17 | CO | Rifle | Garfield County Rgnl | 7/7082 | 07/11/17 | RNAV (RNP) Z RWY 8, Amdt 1A.
17-Aug-17 | CO | Rifle | Garfield County Rgnl | 7/7084 | 07/11/17 | RNAV (RNP) Z RWY 26, Amdt 1A.
17-Aug-17 | CO | Rifle | Garfield County Rgnl | 7/7085 | 07/11/17 | VOR/DME-C, Amdt 3.
17-Aug-17 | CO | Rifle | Garfield County Rgnl | 7/7086 | 07/11/17 | ILS RWY 26, Amdt 3A.
17-Aug-17 | CO | Rifle | Garfield County Rgnl | 7/7090 | 07/11/17 | Takeoff Minimums and Obstacle DP, Amdt 10.
17-Aug-17 | TX | Bay City | Bay City Muni | 7/7163 | 7/6/17 | VOR-A, Amdt 4C.
17-Aug-17 | NY | Albany | Albany Intl | 7/7368 | 7/5/17 | RNAV (GPS) Y RWY 19, Amdt 2.
17-Aug-17 | WA | Spokane | Spokane Intl | 7/7390 | 6/29/17 | RNAV (GPS) Y RWY 21, Amdt 2A.
17-Aug-17 | WA | Spokane | Spokane Intl | 7/7391 | 6/29/17 | RNAV (GPS) Y RWY 3, Amdt 2B.
17-Aug-17 | NC | Greensboro | Piedmont Triad Intl | 7/8293 | 7/5/17 | RNAV (GPS) RWY 5R, Amdt 2C.
17-Aug-17 | WI | Green Bay | Austin Straubel Intl | 7/8444 | 7/5/17 | ILS OR LOC RWY 36, Amdt 9.
17-Aug-17 | WI | Green Bay | Austin Straubel Intl | 7/8445 | 7/5/17 | ILS OR LOC RWY 6, Amdt 21B.
17-Aug-17 | WI | Green Bay | Austin Straubel Intl | 7/8446 | 7/5/17 | RNAV (GPS) RWY 6, Amdt 2.
17-Aug-17 | WI | Green Bay | Austin Straubel Intl | 7/8447 | 7/5/17 | RNAV (GPS) RWY 18, Amdt 1A.
17-Aug-17 | WI | Green Bay | Austin Straubel Intl | 7/8448 | 7/5/17 | RNAV (GPS) RWY 24, Amdt 1.
17-Aug-17 | WI | Green Bay | Austin Straubel Intl | 7/8449 | 7/5/17 | RNAV (GPS) RWY 36, Amdt 3.
17-Aug-17 | WI | Green Bay | Austin Straubel Intl | 7/8450 | 7/5/17 | LOC BC RWY 24, Amdt 19A.
17-Aug-17 | WI | Green Bay | Austin Straubel Intl | 7/8451 | 7/5/17 | VOR-A, Orig-A.
17-Aug-17 | WI | Green Bay | Austin Straubel Intl | 7/8452 | 7/5/17 | RADAR 1, Amdt 9C.
17-Aug-17 | CA | Sacramento | Sacramento Intl | 7/8500 | 7/5/17 | RNAV (GPS) Y RWY 34L, Amdt 2.
17-Aug-17 | CA | Sacramento | Sacramento Intl | 7/8510 | 7/5/17 | RNAV (GPS) Y RWY 16R, Amdt 2A.
17-Aug-17 | CA | Oakland | Metropolitan Oakland Intl | 7/8514 | 7/5/17 | RNAV (GPS) Y RWY 30, Amdt 5B.
17-Aug-17 | CA | Oakland | Metropolitan Oakland Intl | 7/8519 | 7/5/17 | RNAV (GPS) Y RWY 12, Amdt 3.
17-Aug-17 | DC | Washington | Washington Dulles Intl | 7/9191 | 7/6/17 | RNAV (GPS) Y RWY 19L, Amdt 2A.
17-Aug-17 | DC | Washington | Washington Dulles Intl | 7/9192 | 7/6/17 | RNAV (GPS) RWY 1L, Orig-B.
17-Aug-17 | DC | Washington | Washington Dulles Intl | 7/9195 | 7/6/17 | RNAV (GPS) RWY 19R, Orig-A.
17-Aug-17 | DC | Washington | Washington Dulles Intl | 7/9197 | 7/6/17 | RNAV (GPS) Y RWY 1C, Amdt 1B.
17-Aug-17 | DC | Washington | Washington Dulles Intl | 7/9199 | 7/6/17 | RNAV (GPS) Y RWY 1R, Amdt 1B.
17-Aug-17 | DC | Washington | Washington Dulles Intl | 7/9205 | 7/6/17 | RNAV (GPS) Y RWY 19C, Amdt 3C.
17-Aug-17 | TX | Waco | Waco Rgnl | 7/9683 | 7/6/17 | RNAV (GPS) RWY 19, Orig-A.
17-Aug-17 | OH | Columbus | Rickenbacker Intl | 7/9688 | 7/6/17 | RNAV (GPS) RWY 5R, Amdt 1A.
17-Aug-17 | TX | Houston | William P Hobby | 7/9693 | 7/5/17 | RNAV (GPS) RWY 4, Amdt 3.
17-Aug-17 | IL | Chicago | Chicago O'Hare Intl | 7/9714 | 7/5/17 | RNAV (GPS) RWY 15, Amdt 2D.
17-Aug-17 | IL | Chicago | Chicago O'Hare Intl | 7/9719 | 7/5/17 | RNAV (GPS) RWY 22R, Amdt 2A.
17-Aug-17 | IL | Chicago | Chicago O'Hare Intl | 7/9720 | 7/5/17 | RNAV (GPS) RWY 27R, Amdt 3.
17-Aug-17 | IL | Chicago | Chicago O'Hare Intl | 7/9722 | 7/5/17 | RNAV (GPS) RWY 28C, Amdt 1.
17-Aug-17 | IL | Chicago | Chicago O'Hare Intl | 7/9728 | 7/5/17 | RNAV (GPS) RWY 28R, Amdt 4.
17-Aug-17 | IL | Chicago | Chicago O'Hare Intl | 7/9729 | 7/5/17 | RNAV (GPS) Z RWY 27L, Amdt 4.
17-Aug-17 | IL | Chicago | Chicago O'Hare Intl | 7/9730 | 7/5/17 | RNAV (GPS) PRM RWY 10C (CLOSE PARALLEL), Orig.
17-Aug-17 | IL | Chicago | Chicago O'Hare Intl | 7/9732 | 7/5/17 | RNAV (GPS) PRM RWY 28C, Orig.
17-Aug-17 | KS | Wichita | Wichita Dwight D Eisenhower National | 7/9734 | 6/29/17 | RNAV (GPS) Y RWY 1L, Amdt 1B.
17-Aug-17 | LA | New Orleans | Louis Armstrong New Orleans Intl | 7/9736 | 7/5/17 | RNAV (GPS) Y RWY 29, Amdt 4.
17-Aug-17 | KY | Covington | Cincinnati/Northern Kentucky Intl | 7/9738 | 6/29/17 | RNAV (GPS) Y RWY 36C, Amdt 1B.
17-Aug-17 | KY | Covington | Cincinnati/Northern Kentucky Intl | 7/9743 | 6/29/17 | RNAV (GPS) Y RWY 36L, Amdt 1B.
17-Aug-17 | KY | Covington | Cincinnati/Northern Kentucky Intl | 7/9744 | 6/29/17 | RNAV (GPS) Y RWY 9, Amdt 1.
17-Aug-17 | KY | Covington | Cincinnati/Northern Kentucky Intl | 7/9772 | 6/29/17 | RNAV (GPS) Y RWY 18C, Amdt 1B.
17-Aug-17 | KY | Covington | Cincinnati/Northern Kentucky Intl | 7/9775 | 6/29/17 | RNAV (GPS) Y RWY 18L, Amdt 1B.
17-Aug-17 | KY | Covington | Cincinnati/Northern Kentucky Intl | 7/9777 | 6/29/17 | RNAV (GPS) Y RWY 18R, Amdt 1B.
17-Aug-17 | WI | Green Bay | Green Bay-Austin Straubel Intl | 7/9784 | 7/13/17 | Takeoff Minimums and Obstacle DP, Amdt 2.

[FR Doc. 2017-17009 Filed 8-16-17; 8:45 am]

BILLING CODE 4910-13-P